DEPARTMENT OF ENERGY

Federal Energy Regulatory Commission

[Docket No. EG01-29-000, et al.]

STI Capital Company, et al.; Electric Rate and Corporate Regulation Filings

December 22, 2000.

Take notice that the following filings have been made with the Commission:

1. STI Capital Company

[Docket No. EG01-29-000]

Take notice that on December 20, 2000, STI Capital Company, 2200 Pacific Coast Highway, San Diego, California 92101 (STI), filed with the Federal Energy Regulatory Commission (Commission) an Amendment to its November 9, 2000 Application for Determination of Exempt Wholesale Generator Status pursuant to Part 365 of the Commission's Regulations and Section 32 of the Public Utility Holding Company Act, as amended (the Application).

The Application seeks a determination that STI qualifies for Exempt Wholesale Generator status. The purpose of the Amendment is to clarify STI's transactions with its corporate parent and its position in that regard.

Comment date: January 8, 2001, in accordance with Standard Paragraph E at the end of this notice. The Commission will limit its consideration of comments to those that concern the adequacy or accuracy of the application.

2. Reliant Energy Aurora, LP

[Docket No. EG01-63-000]

Take notice that on December 15, 2000, Reliant Energy Aurora, LP, (Reliant Aurora) tendered for filing an application for a determination of exempt wholesale generator status, pursuant to Section 32 (a)(1) of the Public Utility Holding Company Act of 1935, as amended, (PUHCA), 15 U.S.C. 79z-5a (1994), and Subchapter T, Part 365 of the regulations of the Federal Energy Regulatory Commission (Commission), 18 CFR Part 365.

Reliant Aurora is a Delaware limited partnership and proposes to construct, own and operate a generation facility in DuPage County, Illinois.

Comment date: January 11, 2001, in accordance with Standard Paragraph E at the end of this notice. The Commission will limit its consideration of comments to those that concern the adequacy or accuracy of the application.

3. Hunlock Creek Energy Ventures

[Docket No. EG01-64-000]

Take notice that on December 15, 2000, Hunlock Creek Energy Ventures (Energy Ventures) filed with the Federal Energy Regulatory Commission an application for determination that it meets the requirements for exempt wholesale generator status pursuant to Part 365 of the Commission's regulations. Energy Ventures owns and operates the Hunlock Power Station, a coal-fired electric generating facility with a continuous net capacity of 48 MW, and a 44 MW combustion turbine generating facility on the Hunlock site. Energy Ventures is an affiliate of UGI Utilities, Inc., Allegheny Energy Supply Company, LLC, Monongahela Power Company, The Potomac Edison Company, and West Penn Power Company.

Comment date: January 11, 2001, in accordance with Standard Paragraph E at the end of this notice. The Commission will limit its consideration of comments to those that concern the adequacy or accuracy of the application.

4. Duke Energy Hinds, LLC

[Docket No. EG01-65-000]

Take notice that on December 15, 2000, Duke Energy Hinds, LLC (Duke Hinds) tendered for filing pursuant to Section 205 of the Federal Power Act its proposed FERC Electric Tariff No. 1.

Duke Hinds seeks authority to sell energy and capacity, as well as ancillary services, at market-based rates, together with certain waivers and preapprovals. Duke Hinds also seeks authority to sell, assign, or transfer transmission rights that it may acquire in the course of its marketing activities. Duke Hinds seeks an effective date sixty (60) days from the date of filing for its proposed rate schedules.

Comment date: January 11, 2001, in accordance with Standard Paragraph E at the end of this notice. The Commission will limit its consideration of comments to those that concern the adequacy or accuracy of the application.

5. IPP Energy LLC

[Docket No. EG01-66-000]

Take notice that on December 15, 2000, IPP Energy LLC (IPP), a limited liability company organized under the laws of the state of Delaware, filed with the Federal Energy Regulatory Commission (Commission) an application for determination of exempt wholesale generator status pursuant to Part 365 of the Commission's regulations.

IPP states that it will be engaged directly and exclusively in the business of owning and operating a 55 MW natural gas fired electric generating facility and related assets in Binghamton, New York. IPP will sell its capacity exclusively at wholesale. A copy of the filing was served upon the Securities and Exchange Commission and the New York State Public Service Commission

Comment date: January 11, 2001, in accordance with Standard Paragraph E at the end of this notice. The Commission will limit its consideration of comments to those that concern the adequacy or accuracy of the application.

6. Tiverton Power Associates Limited Partnership

[Docket No. EG01-67-000]

Take notice that on December 18, 2000, Tiverton Power Associates Limited Partnership (Applicant) filed with the Federal Energy Regulatory Commission an Application for determination of exempt wholesale generator status pursuant to part 365 of the Commission's regulations. Applicant, a Rhode Island Limited Partnership, proposes to hold a leasehold interest in and market exclusively at wholesale the output of an approximately 265-MW natural gas-fired electric generation facility near Tiverton, Rhode Island.

Comment date: January 11, 2001, in accordance with Standard Paragraph E at the end of this notice. The Commission will limit its consideration of comments to those that concern the adequacy or accuracy of the application.

7. Rumford Power Associates Limited Partnership

[Docket No. EG01-68-000]

Take notice that on December 18, 2000, Rumford Power Associates Limited Partnership (Applicant) filed with the Federal Energy Regulatory Commission an Application for determination of exempt wholesale generator status pursuant to Part 365 of the Commission's regulations. Applicant, a Maine Limited Partnership, proposes to hold a leasehold interest in and market exclusively at wholesale the output of an approximately 265-MW natural gas-fired electric generation facility near Rumford, Maine.

Comment date: January 11, 2001, in accordance with Standard Paragraph E at the end of this notice. The Commission will limit its consideration of comments to those that concern the adequacy or accuracy of the application.

8. PMCC Calpine New England Investment LLC

[Docket No. EG01-69-000]

Take notice that on December 19, 2000, PMCC Calpine New England Investment LLC (Applicant) filed with the Federal Energy Regulatory Commission an application for Commission determination of exempt wholesale generator status pursuant to Part 365 of the Commission's regulations. Applicant is a Delaware limited liability company formed for the benefit of PMCC Calpine NEIM LLC, a Delaware limited liability company, to purchase and hold legal title to two approximately 265 megawatt natural gas-fired electric generating facilities.

Comment date: January 11, 2001, in accordance with Standard Paragraph E at the end of this notice. The Commission will limit its consideration of comments to those that concern the adequacy or accuracy of the application.

9. PMCC Calpine New England Investment LLC

[Docket No. EG01-70-000]

Take notice that on December 19, 2000, PMCC Calpine New England Investment LLC (Applicant) filed with the Federal Energy Regulatory Commission an application for Commission determination of exempt wholesale generator status pursuant to Part 365 of the Commission's regulations. Applicant is a Delaware limited liability company formed for the benefit of PMCC Calpine NEIM LLC, a Delaware limited liability company, to purchase and hold legal title to two approximately 265 megawatt natural gas-fired electric generating facilities.

Comment date: January 11, 2001, in accordance with Standard Paragraph E at the end of this notice. The Commission will limit its consideration of comments to those that concern the adequacy or accuracy of the application.

10. Canal Electric Company

[Docket No. ER00-3766-001]

Take notice that on December 18, 2000, Canal Electric Company (Canal) filed the second restated sixth amendment (Second Restated Sixth Amendment) to the Power Contract between Canal and its retail affiliates Cambridge Electric Light Company (Cambridge) and Commonwealth Electric Company (Commonwealth) (Canal Rate Schedule FERC No. 33, the Seabrook Power Contract). This filing supplements Canal's filing made with the Commission on September 28, 2000, whereby it submitted the Restated Sixth Amendment.

The Second Restated Sixth Amendment provides for a buydown of the Seakbrook Power Contract by Cambridge and Commonwealth in furtherance of their efforts to mitigate transition costs, in compliance with the requirements of the Massachusetts Electric Industry Restructuring Act of 1997. Under the Second Restated Sixth Amendment, Cambridge will pay Canal the amount of $28,235,000, and Commonwealth will pay Canal the amount of $113,365,000, for a reduction in the Gross Plant Investment in the amount of $141,600,000. This buydown payment in the amount of $141,600,000 is a reduction from the buydown payment of $146,741,000 stated in the Restated Sixth Amendment. Canal has requested approval of the Restated Sixth Amendment for effect November 1, 2000.

Comment date: January 8, 2001, in accordance with Standard Paragraph E at the end of this notice.

11. IPP Energy LLC

[Docket No. ER01-688-000]

Take notice that on December 15, 2000, IPP Energy LLC (IPP), tendered for filing an application for waivers and blanket approvals under various regulations of the Commission and for an order accepting IPP's Electric Rate Schedule FERC No. 1 and accompanying Code of Conduct to be effective January 1, 2001.

IPP intends to engage in electric power and energy transactions as a marketer. In transactions where IPP sells electric energy, it proposes to make such sales on rates, terms and conditions to be mutually agreed to with the purchasing party. IPP's proposed Rate Schedule also permits it to reassign transmission capacity and sell certain ancillary services at market-based rates.

Comment date: January 5, 2001, in accordance with Standard Paragraph E at the end of this notice.

12. Merchant Energy Group of the Americas, Inc.

[Docket No. ER01-689-000]

Take notice that on December 15, 2000, Merchant Energy Group of the Americas, Inc. (MEGA), tendered for filing an amended FERC Electric Rate Schedule No. 1 (Rate Schedule) to sell ancillary services at market-based rates into New York Power Pool markets administered by the New York Independent System Operator (NYISO). Pursuant to the amended Rate Schedule, MEGA may sell Operating Reserves (Spinning Reserves, Ten Minute Non-Synchronous Reserves and Thirty Minute Operating Reserves) and Regulation and Frequency Response Service (load following), as defined in the NYISO tariff. MEGA also revises its Rate Schedule to include designations as required under Order No. 614.

MEGA requests waiver of the Commission's prior notice requirement to permit its amended Rate Schedule to be effective date of January 1, 2001.

Comment date: January 5, 2001, in accordance with Standard Paragraph E at the end of this notice.

13. Reliant Energy Aurora, LP

[Docket No. ER01-687-000]

Take notice that on December 15, 2000, Reliant Energy Aurora, LP (Reliant Aurora), tendered for filing pursuant to Rule 205 of the Commission's Rules of Practice and Procedure, 18 CFR 385.205, a petition for waivers and blanket approvals under various regulations of the Commission and for an order accepting its FERC Electric Rate Schedule No. 1 authorizing Reliant Aurora to make sales at market-based rates. Reliant Aurora has requested this rate schedule become effective on the in service date Reliant Aurora of its DuPage County, Illinois generating facility.

Reliant Aurora intends to sell electric power at wholesale. In transactions where Reliant Aurora sells electric energy, it proposes to make such sales on rates, terms, and conditions to be mutually agreed to with the purchasing party. Reliant Aurora's Rate Schedule provides for the sale of energy and capacity at agreed prices.

Comment date: January 5, 2001, in accordance with Standard Paragraph E at the end of this notice.

14. Duke Energy Hinds, LLC

[Docket No. ER01-691-000]

Take notice that on December 15, 2000, Duke Energy Hinds, LLC (Duke Hinds), tendered for filing pursuant to Section 205 of the Federal Power Act its proposed FERC Electric Tariff No. 1.

Duke Hinds seeks authority to sell energy and capacity, as well as ancillary services, at market based rates, together with certain waivers and preapprovals. Duke Hinds also seeks authority to sell, assign, or transfer transmission rights that it may acquire in the course of its marketing activities.

Duke Hinds seeks an effective date sixty (60) day from the date of filing for its proposed rate schedules.

Comment date: January 5, 2001, in accordance with Standard Paragraph E at the end of this notice.

15. Duke Power a Division of Duke Energy Corporation

[Docket No. ER01-685-000]

Take notice that on December 15, 2000, Duke Power (Duke), a division of Duke Energy Corporation, tendered for filing a Service Agreement with Southern Company Energy Marketing, L.P. for power sales at market-based rates.

Duke requests that the proposed Service Agreement be permitted to become effective on December 13, 2000.

Duke states that this filing is in accordance with Part 35 of the Commission's Regulations and a copy has been served on the North Carolina Utilities Commission.

Comment date: January 5, 2001, in accordance with Standard Paragraph E at the end of this notice.

16. Virginia Electric and Power Company

[Docket No. ER00-1737-002]

Take notice that on December 15, 2000, Virginia Electric and Power Company (the Company), tendered for filing a notice of change in status under its market-based rate authority to reflect the Company's acquisition of three qualifying cogeneration facilities and appurtenant transmission facilities. The cogeneration facilities include LG&E-Westmoreland Hopewell, LG&E-Westmoreland Altavista and LG&E-Westmoreland Southampton. The Company also requests to elect to notify the Commission of any future changes in status in its next three-year market analysis.

Comment date: January 5, 2001, in accordance with Standard Paragraph E at the end of this notice.

17. American Electric Power Service Corporation

[Docket No. ER00-3688-002]

Take notice that on December 18, 2000, the American Electric Power Service Corporation (AEPSC), on behalf of the operating companies of the American Electric Power System (collectively AEP), tendered for filing a refund report in compliance with the Commission's order in American Electric Power Service Corporation, 93 FERC ¶ 61,151.

Comment date: January 9, 2001, in accordance with Standard Paragraph E at the end of this notice.

18. Ameren Energy Development Company

[Docket No. ER01-294-001]

Take notice that on December 18, 2000, Ameren Energy Development Company (AED), tendered for filing certain information intended to supplement its application for authorization to engage in the sale of electric energy and capacity at market-based rates filed on October 31, 2000, in the proceeding captioned above.

Comment date: January 9, 2001, in accordance with Standard Paragraph E at the end of this notice.

19. WFEC GENCO, L.L.C.

[Docket No. ER01-388-001]

Take notice that on December 15, 2000, WFEC GENCO, L.L.C., tendered for filing its revised FERC Electric Tariff Original Volume No. 1 pursuant to the November 30, 2000 letter order of the Director of the Division of Corporate Applications in the above-captioned proceeding.

Comment date: January 5, 2001, in accordance with Standard Paragraph E at the end of this notice.

20. AES NewEnergy, Inc.

[Docket No. ER01-507-001]

Take notice that on December 15, 2000, AES NewEnergy, Inc. (AES NewEnergy) tendered for filing an amendment to the Notice of Succession filed with the Commission on November 22, 2000 in the above-referenced docket.

Comment date: January 5, 2001, in accordance with Standard Paragraph E at the end of this notice.

21. Wisconsin Electric Power Company

[Docket No. ER01-678-000]

Take notice that on December 12, 2000, Wisconsin Electric Power Company (Wisconsin Electric), tendered for filing a Short-Term Firm Transmission Service Agreement and a Non-Firm Transmission Service Agreement between itself and Madison Gas and Electric Company (MG&E). The Transmission Service Agreements allow MG&E to receive transmission services under Wisconsin Energy Corporation Operating Companies' FERC Electric Tariff, Volume No. 1. Wisconsin Electric requests the Commission assign these service agreements as Nos. 188 and 189 under its Tariff.

Wisconsin Electric requests an effective date of May 1, 2002 coincident with MG&E's power supply transactions, Wisconsin Electric requests waiver of the Commission's notice requirements in order to accommodate MG&E's power supply transactions, Copies of the filing have been served on MG&E, the Public Service Commission of Wisconsin and the Michigan Public Service Commission.

Comment date: January 3, 2001, in accordance with Standard Paragraph E at the end of this notice.

22. American Transmission Company

[Docket No. ER01-679-000]

Take notice that on December 14, 2000, American Transmission Company, LLC (ATCLLC), tendered for filing Generator Interconnection Agreements between ATCLLC and Edison Sault Electric Company for the following generators.

ATCLLC requests an effective date of January 1, 2001.

Comment date: January 5, 2001, in accordance with Standard Paragraph E at the end of this notice.

23. Allegheny Energy Service Corporation, on Behalf of Monongahela Power Company, the Potomac Edison Company, and West Penn Power Company (Allegheny Power)

[Docket No. ER01-680-000]

Take notice that on December 15, 2000, Allegheny Energy Service Corporation on behalf of Monongahela Power Company, The Potomac Edison Company and West Penn Power Company (Allegheny Power), tendered for filing Notice of Cancellation of Service Agreement Nos. 19, 21 and 3 with Heartland Energy Services a customer under Allegheny Power's Standard Transmission Service Rate Schedule, Standard Generation Service Rate Schedule and Point-to-Point Transmission Service Tariff.

Allegheny Power has requested a waiver of notice to allow the cancellations to be effective June 14, 2000.

Copies of the filing have been provided to the Public Utilities Commission of Ohio, the Pennsylvania Public Utility Commission, the Maryland Public Service Commission, the Virginia State Corporation Commission, and the West Virginia Public Service Commission.

Comment date: January 9, 2001, in accordance with Standard Paragraph E at the end of this notice.

24. American Transmission Systems, Inc.

[Docket No. ER01-681-000]

Take notice that on December 13, 2000, American Transmission Systems, Inc., tendered for filing a Service Agreement to provide Non-Firm Point to Point Transmission Service for the City of Cleveland, Department of Public Utilities, Division of Cleveland Public Power, the Transmission Customer. Services are being provided under the American Transmission Systems, Inc., Open Access Transmission Tariff submitted for filing by the Federal Energy Regulatory Commission in Docket No. ER99-2647-000. The proposed effective date under the Service Agreement is December 11, 2000 for the above mentioned Service Agreement in this filing.

Comment date: January 4, 2001, in accordance with Standard Paragraph E at the end of this notice.

25. Western Resources, Inc

[Docket No. ER01-682-000]

Take notice that on December 13, 2000, Western Resources, Inc.(WR), tendered for filing a Service Agreement between WR and Southern Company Energy Marketing L.P. (Southern). WR states that the purpose of this agreement is to permit Southern to take service under WR Market Based Power Sales Tariff on file with the Commission.

This agreement is proposed to be effective December 1, 2000.

Copies of the filing were served upon Southern and the Kansas Corporation Commission.

Comment date: January 4, 2001, in accordance with Standard Paragraph E at the end of this notice.

26. Xcel Energy Operating Companies, Northern States Power Company, Northern States Power Company (Wisconsin)

[Docket No. ER01-683-000]

Take notice that on December 15, 2000, Northern States Power Company and Northern States Power Company (Wisconsin) (jointly NSP), wholly-owned utility operating company subsidiaries of Xcel Energy Inc., submitted a request that the currently effective Exhibit VII to the “Agreement to Coordinate Planning and Operations and Interchange Power and Energy between Northern States Power Company (Minnesota) and Northern States Power Company (Wisconsin)” dated September 17, 1984, be allowed to remain in effect without change effective January 1, 2001. The filing is required by Article 2.3 of the Amendment to Settlement Agreement dated January 9, 1987 in Docket No. ER84-690. The Interchange Agreement is NSP Electric Rate Schedule FERC No. 437 and NSPW Electric Rate Schedule FERC No. 73.

Comment date: January 5, 2001, in accordance with Standard Paragraph E at the end of this notice.

27. Pacific Gas and Electric Company

[Docket No. ER01-684-000]

Take notice that on December 15, 2000, Pacific Gas and Electric Company (PG&E), tendered for filing proposed revisions to Maximum Monthly MWh available to the California Independent System Operator Corporation (ISO) under Reliability Must-run Service (RMR) Agreements. This filing is an annual update to monthly energy limits at all of PG&E's hydroelectric facilities which are subject to ISO dispatch under the RMR Agreements.

The changes are proposed to be effective January 1, 2001.

Copies of PG&E's supplemental filing have been served upon the ISO, the California Electricity Oversight Board, and the California Public Utilities Commission.

Comment date: January 5, 2001, in accordance with Standard Paragraph E at the end of this notice.

28. Duke Electric Transmission, a Division of Duke Energy Corporation

[Docket No. ER01-686-000]

Take notice that on December 18, 2000, Duke Electric Transmission (Duke ET), tendered for filing First Revised Service Agreement No. 203 with Duke Power, a division of Duke Energy Corporation, for Transmission Service under Duke ET's Open Access Transmission Tariff.

Duke requests that the proposed Revised Service Agreement be permitted to become effective on January 1, 2001.

Duke states that this filing is in accordance with Part 35 of the Commission's Regulations and a copy has been served on the North Carolina Utilities Commission.

Comment date: January 9, 2001, in accordance with Standard Paragraph E at the end of this notice.

29. Mid-Continent Area Power Pool

[Docket No. ER01-690-000]

Take notice that on December 18, 2000, the Mid-Continent Area Power Pool (MAPP), on behalf of its members that are subject to Commission jurisdiction as public utilities under Section 201(e) of the Federal Power Act, tendered for filing amendments to the Restated Agreement, FERC Electric Tariff, Original Volume No. 2 that would allow for the formation of the Midwest Reliability Organization, a non-profit Delaware corporation.

Comment date: January 9, 2001, in accordance with Standard Paragraph E at the end of this notice.

30. Consumers Energy Company

[Docket No. ER01-692-000]

Take notice that on December 15, 2000, Consumers Energy Company (Consumers), tendered for filing an executed Service Agreement for Firm and Non-Firm Point to Point and Network Integration Transmission Service with Nordic Electric, L.L.C. (Customer) pursuant to the Joint Open Access Transmission Service Tariff filed on December 31, 1996 by Consumers and The Detroit Edison Company (Detroit Edison).

Consumers is requesting an effective date of November 20, 2000. Customer is taking service under the Service Agreement in connection with Consumers' Electric Customer Choice program.

Copies of the filed agreement were served upon the Michigan Public Service Commission, Detroit Edison, and the Customer.

Comment date: January 5, 2001, in accordance with Standard Paragraph E at the end of this notice.

31. Public Service Company of New Mexico

[Docket No. ER01-693-000]

Take notice that on December 13, 2000, Public Service Company of New Mexico (PNM), submitted for filing two executed service agreements with Morgan Stanley Capital Group Inc. (Morgan Stanley) under the terms of PNM's Open Access Transmission Tariff. One agreement is for short-term firm point-to-point transmission service and one agreement is for non-firm point-to-point transmission service. PNM's filing is available for public inspection at its offices in Albuquerque, New Mexico.

Copies of the filing have been sent to Morgan Stanley and to the New Mexico Public Regulation Commission.

Comment date: January 4, 2001, in accordance with Standard Paragraph E at the end of this notice.

32. Jersey Central Power & Light Company, Metropolitan Edison Company, Pennsylvania Electric Company

[Docket No. ER01-694-000]

Take notice that on December 18, 2000, Jersey Central Power & Light Company, Metropolitan Edison Company and Pennsylvania Electric Company (individually doing business as GPU Energy), tendered for filing Notice of Cancellation of the Service Agreement between GPU Service, Inc. and Williams Energy Services Company (now Williams Energy Marketing & Trading Company), FERC Electric Tariff, Original Volume No. 1, Service Agreement No. 65.

GPU Energy requests that cancellation be effective the 14th day of February 2001.

Comment date: January 9, 2001, in accordance with Standard Paragraph E at the end of this notice.

33. Jersey Central Power & Light Company, Metropolitan Edison Company, Pennsylvania Electric Company

[Docket No. ER01-695-000]

Take notice that on December 18, 2000, Jersey Central Power & Light Company, Metropolitan Edison Company and Pennsylvania Electric Company (individually doing business as GPU Energy), tendered for filing Notice of Cancellation of the Service Agreement between GPU Service, Inc. and Ohio Edison Company, FERC Electric Tariff, Original Volume No. 1, Service Agreement No. 66.

GPU Energy requests that cancellation be effective the 14th day of February 2001.

Comment date: January 9, 2001, in accordance with Standard Paragraph E at the end of this notice.

34. Jersey Central Power & Light Company, Metropolitan Edison Company, Pennsylvania Electric Company

[Docket No. ER01-696-000]

Take notice that on December 18, 2000, Jersey Central Power & Light Company, Metropolitan Edison Company and Pennsylvania Electric Company (individually doing business as GPU Energy), tendered for filing Notice of Cancellation of the Service Agreement between GPU Service, Inc. and Carolina Power & Light Company, FERC Electric Tariff, Original Volume No. 1, Service Agreement No. 71.

GPU Energy requests that cancellation be effective the 14th day of February 2001.

Comment date: January 9, 2001, in accordance with Standard Paragraph E at the end of this notice.

35. Jersey Central Power & Light Company, Metropolitan Edison Company, Pennsylvania Electric Company

[Docket No. ER01-697-000]

Take notice that on December 18, 2000, Jersey Central Power & Light Company, Metropolitan Edison Company and Pennsylvania Electric Company (individually doing business as GPU Energy), tendered for filing a Notice of Cancellation of the Service Agreement between GPU Service, Inc., and Toledo Edison Company, FERC Electric Tariff, Original Volume No. 1, Service Agreement No. 52.

GPU Energy requests that cancellation be effective the 14th day of February 2001.

Comment date: January 9, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.
Acting Secretary.

[FR Doc. 00-33315 Filed 12-28-00; 8:45 am]

BILLING CODE 6717-01-P